DEPARTMENT OF ENERGY

10 CFR Part 207

[EERE-2025-OT-0033]

RIN 1904-AG04

Collection of Information Under the Energy Supply and Environmental Coordination Act of 1974

AGENCY: U.S. Energy Information Administration, Department of Energy.

ACTION: Direct final rule; delay of effective date; response to comments.

SUMMARY: The Department of Energy (DOE) is publishing this document to respond to comments received on the direct final rule “Collection of Information Under the Energy Supply and Environmental Coordination Act of 1974,” published on May 16, 2025. As a result, DOE delays the effective date of the direct final rule.

DATES: As of July 14, 2025, the effective date of the direct final rule published May 16, 2025, at 90 FR 20755, is delayed until August 13, 2025.

FOR FURTHER INFORMATION CONTACT: Mr. Jeffrey Novak, U.S. Department of Energy, Office of the General Counsel, Acting General Counsel, 1000 Independence Avenue SW, Washington, DC 20585-0121; (202) 586-5281 or DOEGeneralCounsel@hq.doe.gov.

SUPPLEMENTARY INFORMATION:

I. May 2025 Direct Final Rule

On May 16, 205, DOE published a direct final rule that amended the Code of Federal Regulations by rescinding the provisions directed to the Collection of Information Under the Energy Supply and Environmental Coordination Act of 1974 (ESECA), codified in 10 CFR part 207, subpart A. 90 FR 20755 (“May 2025 DFR”) ESECA, as codified, aimed to meet the Nation's then growing energy crisis and includes detailed provisions as to the collection of energy information and the development of corresponding reports. Aside from obvious and unnecessary additions as to the format of reports in 10 CFR part 207, the provisions of the ESECA in 15 U.S.C. 796 are largely recycled and repeated in 10 CFR part 207, subpart A, at least in §§ 207.2 and 207.3. Therefore, these superfluous sections are unnecessary and merely enlarge an already bloated CFR.

II. Response to Comments

DOE received two substantive comments, in response to its May 2025 DFR: one from Professor Bridget C.E. Dooling, and one from the Center for Biological Diversity.¹

¹ This rule also corrects an error in the May 2025 DFR that identified the Office of Energy Efficiency and Renewable Energy as the relevant DOE element. To address that error, this document correctly identifies the U.S. Energy Information Administration as the relevant DOE element.

Table II.1—List of Commenters From the May 2025 DFR
Commenter | Reference in this rule | Comment No. in the docket | Commenter type
Center for Biological Diversity | CBD | 2 | Conservation Organization.
Bridget Dooling | Dooling | 3 | Individual.

A. Response to Administrative Procedure Act Procedural Comments

DOE received two comments that raised several procedural matters for DOE's consideration and also incorporated another comment by reference. (EERE-2025-OT-0033-0002; EERE-2025-OT-0033-0003).

In response, DOE notes that the APA requires that agencies provide all interested persons with fair notice and an opportunity to comment on the rulemaking. See 5 U.S.C. 553(b) & (c). The May 2025 DFR provided the public with fair notice of the Department's actions to amend the provisions governing the collection of information under ESECA. See 90 FR 20755. DOE also requested comments on the May 2025 DFR, and stated, if the Department received significant adverse comments, the Department would withdraw the rule or issue a new final rule which responds to such comments. 90 FR 20756. Thus, DOE provided interested persons with fair notice and an opportunity to comment as required by the APA. As a result, there was no need for a good cause exemption from notice-and-comment rulemaking under 5 U.S.C. 553(b).

Finally, contrary to the comments, Dooling cannot argue they were denied fair notice and an opportunity to comment solely based on how the notice was labeled. See Little Sisters of the Poor Saints Peter & Paul Home v. Pennsylvania, 140 S. Ct. 2367, 2384 (2020) (holding that “[f]ormal labels aside, the [interim final rules] contained all of the elements of a notice of proposed rulemaking as required by the APA”). Irrespective of its title, the May 2025 DFR contained the required elements of a proposed rulemaking under the APA

B. Response to Other Comments

Responding to the Center for Biological Diversity's comment concerning differences between the ESECA and current supplementary regulatory requirement, the Department maintains that it has the right to amend and rescind regulations pursuant to changing policy so long as such changes are permissible under the applicable statute, there are good reasons for change, and the agency believes that the change would have a better result than the existing policy. In the present matter, removing duplicative regulations and additional requirements not mandated by statute both ease regulatory burden and serve to reduce potential points of conflict and confusion. As such, DOE believes that this change does not run afoul of applicable statutes, and the Department believes that the change is in the public's best interest.

Additionally, concerning internal consistency within the regulations under this section, the Department would like to note that by amending the language of § 207.5 to adopt the statute by reference, §§ 207.3 and 207.4 become entirely superfluous. Any violation of the statute could still reasonably result in notices of violations, enforcement, appeals, penalties and exemptions, all repeatedly refer to companies' compliance as detailed by §§ 207.7 through 207.9.

III. Conclusion

For the reasons discussed in the May 2025 DFR and reiterated in the preceding sections of this document, DOE is not withdrawing the May 2025 DFR, which amends regulations regarding the collection of information under the Energy Supply and Environmental Coordination Act of 1974.

DOE also notes, to the extent that 5 U.S.C. 553 applies to the delay of effective date, it is exempt from notice and comment because it constitutes a rule of procedure under 5 U.S.C. 553(b)(A) and for which no notice or hearing is required by statute. Additionally, this action is not a “substantive rule” for which a 30-day delay in effective date is required under 5 U.S.C. 553(d).

Signing Authority

This document of the Department of Energy was signed on July 9, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 10, 2025.
Treena V. Garrett,
Federal Register Liaison Officer, U.S. Department of Energy.

[FR Doc. 2025-13136 Filed 7-11-25; 8:45 am]

BILLING CODE 6450-01-P